FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 12, 2016.

A. Federal Reserve Bank of San Francisco (Gerald C. Tsai, Director, Applications and Enforcement) 101 Market Street, San Francisco, California 94105-1579:

1. Berkshire Hathaway Inc., and its subsidiary National Indemnity Company, together with National Fire & Marine Insurance Company, Columbia Insurance Company, National Liability & Fire Insurance Company, Cypress Insurance Company, National Indemnity Company of the South, Redwood Fire and Casualty Company, Government Employees Insurance Company, General Reinsurance Corporation, General Re Life Corporation, General Star Indemnity Company, Mount Vernon Fire Insurance Company, U.S. Underwriters Insurance Company, United States Liability Insurance Company, The Medical Protective Company, Berkshire Hathaway Assurance Corporation, Berkshire Hathaway Life Insurance Company of Nebraska, Berkshire Hathaway Homestate Insurance Company, First Berkshire Life Insurance Company, Princeton Insurance Company, National Indemnity Company of Mid America, Seaworthy Insurance Company, Unione Italiana Insurance Company, GEICO Advantage Insurance Company, GEICO Casualty Insurance Company, GEICO Choice Insurance Company, GEICO Indemnity Company, GEICO Secure Insurance Company, GEICO Corporation, General Re Corporation, Berkshire Hathaway Specialty Insurance Company, Central States Indemnity Co. of Omaha, Central States of Omaha Companies, Inc., AmGUARD Insurance Company, Atlanta International Insurance Company, California Insurance Company, Commercial Casualty Insurance Company, Continental Indemnity Company, Finial Reinsurance Company, EastGUARD Insurance Company, General Star National Insurance Company, Genesis Insurance Company, Oak River Insurance Company, NorGUARD Insurance Company, Old United Casualty Company, Radnor Specialty Insurance Company, Berkshire Hathaway Direct Insurance Company, WestGUARD Insurance Company, Brilliant National Services, Inc., U.S. Investment Corporation, BH Finance LLC, Precision Steel Warehouse Inc., The Fechheimer Brothers Company, Medical Protective Corporation, Boat America Corporation, Nebraska Furniture Mart, Inc., Benjamin Moore Pension Trust, The Buffalo News Office Pension Plan, The Buffalo News Editorial Pension Plan, The Buffalo News Mechanical Pension Plan, The Buffalo News Drivers/Distributors Pension Plan, Dexter Pension Plan, FlightSafety International Inc. Retirement Income Plan, Fruit of the Loom Pension Trust, GEICO Corporation Pension Plan Trust, Johns Manville Corporation Master Pension Trust, Justin Brands Inc. Union Pension Plan & Justin Brands Inc. Pension Plan & Trust, Acme Brick Company Pension Trust and Scott Fetzer Company Collective Investment Trust, all in Omaha, Nebraska; Warren Buffett, Omaha, Nebraska; Charles Munger, Los Angeles, California; and certain immediate family members of Warren Buffett and Charles Munger, to retain and acquire additional voting shares of Wells Fargo & Company, San Francisco, California, and thereby indirectly acquire shares of Wells Fargo Bank, National Association, Sioux Falls, South Dakota; Wells Fargo Bank Northwest, National Association, Ogden, Utah; Wells Fargo Bank South Central, National Association, Houston, Texas; Wells Fargo Financial National Bank, Las Vegas, Nevada; and Wells Fargo Bank, Ltd., Los Angeles, California.

Board of Governors of the Federal Reserve System, June 21, 2016.
Michele Taylor Fennell,
Assistant Secretary of the Board.

[FR Doc. 2016-15030 Filed 6-23-16; 8:45 am]

BILLING CODE 6210-01-P